ENVIRONMENTAL PROTECTION AGENCY

[FRL-7032-8]

Summary Report for the Workshop on Issues Associated With Dermal Exposure and Uptake

AGENCY: Environmental Protection Agency (EPA).

ACTION: Notice of availability of a final report.

SUMMARY: The Environmental Protection Agency's (EPA) Risk Assessment Forum (RAF) announces the availability of a final report, Summary Report for the Workshop on Issues Associated with Dermal Exposure and Uptake (EPA/630/R-00/003, December 2000). The EPA Risk Assessment Forum (Forum) held a workshop on December 10 and 11, 1998, to address generic technical issues related to dermal exposure and risk assessment that were raised during the February 1998 peer review of the Superfund Dermal Guidance (SDG). Eastern Research Group, Inc., an EPA contractor, organized and convened the workshop on behalf of the Forum. The issues were organized into four categories: (1) dermal exposure to contaminants in water, (2) dermal exposure to contaminants in soil, (3) adjustment of toxicity factors to reflect absorbed dose, and (4) risk characterization and uncertainty analysis for dermal assessments. Questions within each category were presented to help structure and guide the workshop discussion. In addressing these questions, workshop participants were asked to consider: what do we know today that can be applied to answering the question or providing additional guidance on the topic; what short-term studies could be conducted to answer the question or provide additional guidance; and what longer-term research may be needed to answer the question or provide additional guidance. This report summarizes the discussions at the workshop.

ADDRESSES: The document will be made available electronically through the Risk Assessment Forum's web site (www.epa.gov/ncea/raf/rafpub.htm). A limited number of paper copies will be available from the EPA's National Service Center for Environmental Publications (NSCEP), P.O. Box 42419, Cincinnati, OH 45242; telephone: 1-800-490-9198 or 513-489-8190; facsimile: 513-489-8695. Please provide your name and mailing address and the title and EPA number of the requested publication.

FOR FURTHER INFORMATION CONTACT: Steven Knott, Risk Assessment Forum (8601D), U.S. Environmental Protection Agency, 1200 Pennsylvania Avenue, NW., Washington DC 20460; telephone: 202-564-3359; facsimile: 202-565-0062; email: knott.steven@epa.gov.

Dated: July 19, 2001.
Art Payne,
Acting Director, National Center for Environmental Assessment.

[FR Doc. 01-20506 Filed 8-14-01; 8:45 am]

BILLING CODE 6560-50-P